ENVIRONMENTAL PROTECTION AGENCY

[EPA-HQ-OPPT-2020-0617; FRL-9167-01-OMS]

Information Collection Request Submitted to OMB for Review and Approval; Comment Request; TSCA Mercury Inventory Reporting (Renewal)

AGENCY: Environmental Protection Agency (EPA).

ACTION: Notice.

SUMMARY: The Environmental Protection Agency (EPA) has submitted an information collection request (ICR), TSCA Mercury Inventory Reporting (EPA ICR No. 2567.04, OMB Control No. 2070-0207) to the Office of Management and Budget (OMB) for review and approval in accordance with the Paperwork Reduction Act. This is a proposed extension of the ICR, which is currently approved through October 31, 2021. Public comments were previously requested via the Federal Register on March 24, 2021 during a 60-day comment period. This notice allows for an additional 30 days for public comments. A fuller description of the ICR is given below, including its estimated burden and cost to the public. An Agency may not conduct or sponsor and a person is not required to respond to a collection of information unless it displays a currently valid OMB control number.

DATES: Additional comments must be submitted on or before November 22, 2021.

ADDRESSES: Submit your comments to EPA, referencing Docket ID No. EPA-HQ-OPPT-2020-0617, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Thomas Groeneveld, Existing Chemicals Risk Management Division (7407M), Office of Pollution Prevention and Toxics, Environmental Protection Agency, 1200 Pennsylvania Ave. NW, Washington, DC 20460; telephone number: (202) 566-1188; email address: groeneveld.thomas@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: As directed in the June 2016 Frank R. Lautenberg Chemical Safety for the 21st Century Act amendments to the Toxic Substances Control Act (TSCA), 15 U.S.C. 2601 et seq., EPA is required to assist in the preparation and publication in the Federal Register of an “inventory of mercury supply, use, and trade in the United States.” 15 U.S.C. 2607(b)(10)(B) and (D). Based on the inventory of information collected through this ICR, the Agency is directed to “identify any manufacturing processes or products that intentionally add mercury” and “recommend actions, including proposed revisions of Federal law or regulations, to achieve further reductions in mercury use.” 15 U.S.C. 2607(b)(10)(C).

The primary purpose of this ICR is to support the development of that inventory. In turn, the inventory will help the Agency identify uses of mercury and recommend means to achieve further reductions of such uses in commerce. In addition, the Agency seeks to obtain the information necessary to achieve its goal to further reduce the use of mercury in products and certain manufacturing processes in order to prevent future releases to the environment, as well as assist the United States in reporting implementation under the Minamata Convention. EPA seeks to enhance its current information on how much mercury is used, in which products and manufacturing processes, and whether certain products are manufactured domestically, imported, or exported.

Reporting is required from any person who manufactures (including imports) mercury or mercury-added products, as well as any person who otherwise intentionally uses mercury in a manufacturing process under TSCA Section 8(b). 15 U.S.C. 2607(b)(10)(D)(i). The Agency promulgated reporting under 40 CFR part 713. In order to avoid duplication, EPA coordinated the reporting with the Interstate Mercury Education and Reduction Clearinghouse (IMERC). 15 U.S.C. 2607(b)(10)(D)(ii).

Regulated entities may claim some of the information given to EPA as CBI. Reporting requirements will contain information for respondents on how to make a claim to EPA that all or part of their submitted information is CBI. EPA handles claims of confidentiality pursuant to established CBI procedures, as found in TSCA section 14, 40 CFR part 2, and the Agency's TSCA CBI Manual. CBI is also protected under the Freedom of Information Act (5 U.S.C. 525).

Form Number: 9600-024.

Respondents/affected entities: Persons who manufacture (including import) mercury, mercury-added products, and persons who otherwise intentionally use mercury in a manufacturing process.

Respondent's obligation to respond: Mandatory, 40 CFR part 713.

Estimated number of respondents: 756 (total).

Frequency of response: Every three years.

Total estimated burden: 17,348 hours (per year). Burden is defined at 5 CFR 1320.3(b).

Total estimated cost: $1,384,999 million (per year), includes no annualized capital or operation & maintenance.

Changes in the estimates: There is a decrease of 6,841 hours per year in the estimated respondent burden compared with the ICR currently approved by OMB. This change reflects a decrease in rule familiarization burden, a decrease in form completion burden due to mercury export prohibitions, and changes in the number of estimated respondents. This change is an adjustment.

Courtney Kerwin,
Director, Regulatory Support Division.

[FR Doc. 2021-23020 Filed 10-21-21; 8:45 am]

BILLING CODE 6560-50-P